NUCLEAR REGULATORY COMMISSION

[Docket No. 40-8698]

Finding of No Significant Impact and Notice of Availability of the Environmental Assessment Concerning the License Amendment Request for Consideration of the Proposed Reclamation Plan for the Plateau Resources Limited Shootaring Canyon Uranium Project

AGENCY: Nuclear Regulatory Commission.

ACTION: Notice of availability; environmental assessment and finding of no significant impact.

FOR FURTHER INFORMATION CONTACT: Rick Weller, Fuel Cycle Facilities Branch, Division of Fuel Cycle Safety and Safeguards, Office of Nuclear Material Safety and Safeguards, U.S. Nuclear Regulatory Commission, Mail Stop T8-A33, Washington DC 20555-0001, telephone (301) 415-7287 and e-mail rmw2@nrc.gov.

SUPPLEMENTARY INFORMATION:

I. Introduction

The U.S. Nuclear Regulatory Commission (NRC) has received, by letter dated October 24, 2002, a request from Plateau Resources Limited (PRL) to (1) amend Source Materials License SUA-1371 for the Shootaring Canyon Uranium Project to change its status from “operational” to “reclamation;” and (2) review and approve PRL's proposed reclamation plan for this facility.

Pursuant to the requirements of 10 CFR part 51 (Environmental Protection Regulations for Domestic Licensing and Related Regulatory Functions), the NRC has prepared an environmental assessment (EA) to evaluate the environmental impacts associated with decommissioning and reclamation of the Shootaring Canyon facility. Based on this evaluation, the NRC has concluded that a Finding of No Significant Impact (FONSI) is appropriate for the proposed licensing action.

II. Summary of the Environmental Assessment

The EA was prepared to evaluate the environmental impacts associated with PRL's decommissioning and reclamation plan. In the conduct of its evaluation, the NRC considered the following: (1) PRL's reclamation plan, as supplemented and revised, (2) information contained in prior environmental evaluations of the Shootaring Canyon facility, (3) information in Shootaring Canyon environmental monitoring reports, and (4) information derived from NRC site visits and inspections of the Shootaring Canyon site and from communications with PRL, the Utah Department of Environmental Quality, the Utah State Historic Preservation Office, the U.S. Fish and Wildlife Service, the U.S. Bureau of Land Management (Henry Mountains Field Station), and the U.S. National Park Service (Glen Canyon National Recreational Area). In preparing the EA, the NRC evaluated the potential impacts to cultural resources, threatened and endangered species, surface waters, and groundwater at the Shootaring Canyon site. Additionally, the NRC evaluated the potential impacts to members of the public from construction activities associated with decommissioning and reclamation. Lastly, the NRC evaluated the potential radiological impacts to members of the public from the cleanup and disposal of the radioactive wastes generated during uranium recovery operations. The results of the staff's evaluation are documented in an EA which is available for public inspection and/or copying in the NRC's Public Document Room or from the Publicly Available Records (PARS) component of NRC's document system (ADAMS). The safety aspects of the decommissioning and reclamation plan are discussed separately in a Technical Evaluation Report that will accompany the agency's final licensing action on PRL's request to amend Source Materials License SUA-1371.

III Finding of No Significant Impact

Pursuant to 10 CFR part 51, the NRC has prepared the EA, summarized above, concerning the decommissioning and reclamation of the Shootaring Canyon Uranium Project located in Garfield County, Utah. On the basis of the EA, the NRC has concluded that this licensing action would not have any significant effect on the quality of the environment, and, therefore, an environmental impact statement is not required. The NRC has concluded that the approval of PRL's decommissioning and reclamation plan will not cause any significant impacts on the environment and is protective of human health. The NRC has concluded that decommissioning and reclamation of the Shootaring Canyon facility will not result in any adverse impacts to regional surface and groundwater. A groundwater monitoring program will be maintained throughout site reclamation and following site closure to ensure that groundwater is adequately protected during long-term custody of the site. The NRC has also concluded that the waste impoundment at the site will be designed in accordance with the requirements of 10 CFR part 40, appendix A, to provide reasonable assurance of effective control of radiological hazards for 1,000 years, to the extent reasonably achievable, and, in any case, for at least 200 years.

IV. Further Information

The EA for this proposed action, as well as the licensee's request, as supplemented and revised, are available electronically for public inspection in the NRC's Public Document Room or from the Publicly Available Records (PARS) component of NRC's document system (ADAMS). ADAMS is accessible from the NRC Web site at http://www.nrc.gov/reading-rm/adams.html. The ADAMS Accession Numbers for the licensee's request, as supplemented and revised, are:

ML023050449, ML023050465, ML023080393, ML023090051, ML023090054, ML023090059, ML023090062, ML023090067, ML023090070, (October 24, 2002); ML030640211 (February 24, 2003); ML031200325 (April 24, 2003); and ML032541114, ML032541131 (September 5, 2003). The ADAMS Accession Number for the EA is: ML032530553. Documents can also be examined and/or copied for a fee, at the NRC's Public Document Room, located at One White Flint North, 11555 Rockville Pike, Rockville, MD 20852.

Dated at Rockville, Maryland, this 25th day of September, 2003.
For the Nuclear Regulatory Commission.
Rick Weller,
Senior Project Manager, Fuel Cycle Facilities Branch, Division of Fuel Cycle Safety and Safeguards, Office of Nuclear Material Safety and Safeguards.

[FR Doc. 03-24982 Filed 10-1-03; 8:45 am]

BILLING CODE 7590-01-P